DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Cross-Site Evaluation for the Benefit of Homeless Individuals (GBHI)—NEW

SAMHSA's Center for Substance Abuse Treatment (CSAT) is conducting a cross-site external evaluation of the impact of the Grants for the Benefit of Homeless Individuals (GBHI) program. GBHI is a Targeted Capacity Expansion grant program that links substance abuse and mental health treatment with housing and other needed services and expands and strengthens these services for people with substance use and co-occurring mental health problems who are homeless. The national cross-site evaluation will assess the effectiveness, efficiency and sustainability of the GBHI project services for client abstinence, housing stability, homelessness, and related employment, criminal justice and services outcomes, as well as lessons learned to inform future efforts.

The CSAT GBHI Client Interview—Baseline and the CSAT GBHI Client Interview—6-Month Follow-up have been developed to assess program impact on client outcomes based on review of the literature and consultation with a panel of national experts, GBHI grantees and SAMHSA. The CSAT GBHI Client Interview is composed of questions unique from the Government Performance and Results Act (GPRA) Tool that measure the outcomes of interest and subpopulations of focus: homelessness, housing, treatment history, readiness to change, trauma symptoms, housing and treatment choice, burden and satisfaction, military service, employment, and criminal justice involvement. Immediately following the SAMHSA-required administration of the GPRA CSAT Discretionary Services Client Level Tool, which is completed by enrolled accepted clients for each grantee project at baseline and 6-month follow-up, the paper and pencil CSAT GBHI Client Interview will be administered face-to-face by the GPRA interviewer. Questions regarding perception of care and treatment coercion will be self-administered by participating clients and returned to the interviewer in a sealed envelope to be included in the full package mailed to the cross-site evaluation coordinating center by the interviewer. Client participation is voluntary; non-cash incentives will be given at baseline worth a $10 value and at 6-month follow-up worth a $25 value. Clients will be assigned unique identifiers by local projects; responses will be recorded on a fill-in-the-bubble answer sheet, mailed by the grantee project to the cross-site evaluation coordinating center, and scanned into a secure dataset. This process will eliminate the need for data entry, reduce cost and data entry error, and ensure confidentiality for cross-site data.

The CSAT GBHI Stakeholder Survey will be conducted with GBHI program stakeholders via a web survey to assess the types of stakeholder partnerships involved in the GBHI program and the barriers and strategies developed to overcome barriers to facilitate the implementation and sustainability of project activities under the GBHI program. Each survey respondent will be issued a username and password to login to and complete the secure web-based survey. The web-based survey format will reduce burden on the respondent and minimize potential for measurement error.

Estimate of Annualized Burden Hours
Instrument/activity | Number of respondents | Number of responses per respondent | Total number of responses | Average burden per response | Total burden hours per collection
CSAT GBHI Client Interview:
Baseline Data Collection | 5,885 | 1 | 5,885 | .33 | 1,942
6-month Follow-up Data Collection (80% of baseline) | 4,708 | 1 | 4,708 | .40 | 1,883
CSAT GBHI Stakeholder Survey | 648 | 1 | 648 | .28 | 181
Total | 11,241 |  | 11,241 |  | 4,006

Send comments to Summer King, SAMHSA Reports Clearance Officer, Room 7-1044, One Choke Cherry Road, Rockville, MD 20857 AND e-mail a copy to summer.king@samhsa.hhs.gov. Written comments should be received within 60 days of this notice.

Dated: July 27, 2010.
Elaine Parry,
Director, Office of Program Services.

[FR Doc. 2010-18879 Filed 7-30-10; 8:45 am]

BILLING CODE 4162-20-P